DEPARTMENT OF TRANSPORTATION

Federal Aviation Administration

14 CFR Part 39

[Docket No. FAA-2012-1224; Directorate Identifier 2012-NM-112-AD; Amendment 39-17372; AD 2013-04-14]

RIN 2120-AA64

Airworthiness Directives; Airbus Airplanes

AGENCY: Federal Aviation Administration (FAA), Department of Transportation (DOT).

ACTION: Final rule.

SUMMARY: We are adopting a new airworthiness directive (AD) for all Airbus Model A300 B4-600, B4-600R, and F4-600R series airplanes, and Model A300 C4-605R Variant F airplanes (collectively called Model A300-600 series airplanes); and Model A310 series airplanes. This AD was prompted by a report of an uncommanded slide back of the co-pilot seat to the end stop position. This AD requires a one-time inspection for a part number, a tensile test of the affected seats, and corrective actions if necessary. We are issuing this AD to detect and prevent unwanted movement of a pilot or co-pilot seat in the horizontal direction, which could lead to inadvertent input on the flight control commands and possibly result in loss of controllability of the airplane.

DATES: This AD becomes effective April 17, 2013.

The Director of the Federal Register approved the incorporation by reference of certain publications listed in this AD as of April 17, 2013.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Dan Rodina, Aerospace Engineer, International Branch, ANM-116, Transport Airplane Directorate, FAA, 1601 Lind Avenue SW., Renton, Washington 98057-3356; telephone (425) 227-2125; fax (425) 227-1149.

SUPPLEMENTARY INFORMATION:

Discussion

We issued a notice of proposed rulemaking (NPRM) to amend 14 CFR part 39 to include an AD that would apply to the specified products. That NPRM was published in the Federal Register on December 10, 2012 (77 FR 73343). That NPRM proposed to correct an unsafe condition for the specified products. The Mandatory Continuing Airworthiness Information (MCAI) states:

During a steep climb manoeuvre that was flown with a high pitch (25°) for training of ground threat avoidance, an Airbus A310 aeroplane experienced an uncommanded slide back of the co-pilot seat to the end stop position.

Investigation revealed that on the affected seat, the disc key inside the clutch was broken. SOGERMA Service Bulletin (SB) No 2510112-25-813, which addresses the previous end stop switch issue and which is covered by [European Aviation Safety Agency] EASA AD 2010-0070 [which corresponds to FAA AD 2011-06-09, Amendment 39-16634 (76 FR 15805, March 22, 2011)] had been accomplished on this seat, but due to seizure, the key failure was not detected at time. This broken disc key caused a jamming between the gear and the shaft of the clutch. Despite this failure, the torque transmission between the gear and the shaft was sufficient for normal operation, but not to keep the seat in locked position during climbing, due to the high longitudinal loads generated by the high aeroplane incidence.

This condition, if not detected and corrected, could cause the pilot to lose contact with the controls, leading to an inadvertent input on the flight control commands during take-off or climb, possibly resulting in loss of control of the aeroplane.

For the reasons described above, this [EASA] AD requires a one-time inspection [part number (P/N) inspection of the seats and tensile test] of the affected seats and, depending on findings, accomplishment of applicable corrective action(s) [replacing the seat or modifying the seat by replacing actuator P/N RT19H4FX with a new actuator].

You may obtain further information by examining the MCAI in the AD docket.

Comments

We gave the public the opportunity to participate in developing this AD. We received no comments on the NPRM (77 FR 73343, December 10, 2012), or on the determination of the cost to the public.

Conclusion

We reviewed the available data and determined that air safety and the public interest require adopting the AD as proposed except for minor editorial changes. We have determined that these minor changes:

• Are consistent with the intent that was proposed in the NPRM (77 FR 73343, December 10, 2012) for correcting the unsafe condition; and

• Do not add any additional burden upon the public than was already proposed in the NPRM (77 FR 73343, December 10, 2012).

Costs of Compliance

We estimate that this AD will affect 161 products of U.S. registry. We also estimate that it will take about 1 work-hour per product to comply with the basic requirements of this AD. The average labor rate is $85 per work-hour. Required parts will cost about $4,523 per product. Where the service information lists required parts costs that are covered under warranty, we have assumed that there will be no charge for these parts. As we do not control warranty coverage for affected parties, some parties may incur costs higher than estimated here. Based on these figures, we estimate the cost of this AD to the U.S. operators to be $741,888, or $4,608 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (77 FR 73343, December 10, 2012), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2013-04-14 Airbus: Amendment 39-17372. Docket No. FAA-2012-1224; Directorate Identifier 2012-NM-112-AD.

(a) Effective Date

This airworthiness directive (AD) becomes effective April 17, 2013.

(b) Affected ADs

None.

(c) Applicability

This AD applies to Airbus Model A300 B4-601, B4-603, B4-620, B4-622, B4-605R, B4-622R, F4-605R, F4-622R, and C4-605R Variant F airplanes; and Model A310-203, -204, -221, -222, -304, -322, -324, and -325 airplanes; certificated in any category; all manufacturer serial numbers.

(d) Subject

Air Transport Association (ATA) of America Code 25, Equipment/Furnishings.

(e) Reason

This AD was prompted by a report of an uncommanded slide back of the co-pilot seat to the end stop position. We are issuing this AD to detect and prevent unwanted movement of a pilot or co-pilot seat in the horizontal direction, which could lead to inadvertent input on the flight control commands possibly resulting in loss of controllability of the airplane.

(f) Compliance

You are responsible for having the actions required by this AD performed within the compliance times specified, unless the actions have already been done.

(g) Part Number (P/N) Inspection

Within 6 months after the effective date of this AD, except as provided by paragraph (h) of this AD: Do an inspection to determine the part number of each SOGERMA pilot and co-pilot seat installed on the airplane. As an alternative, a review of the maintenance or delivery records may be used to determine the part number of the pilot and co-pilot seat if the part number can be positively determined from that review.

(h) Seats That Have Been Previously Tested or Modified

SOGERMA pilot and co-pilot seats having P/N 2510112 series (all suffixes) or P/N 2510113 series (all suffixes) that, before the effective date of this AD, have already passed the tensile test specified in paragraph (i) of this AD, or have been modified as specified in the Operating Instructions of EADS SOGERMA Inspection Service Bulletin 2510112-25-898, dated April 25, 2012, are not required to be tested, and are considered to be compliant with the requirements of this AD.

(i) Tensile Test

If, during the inspection required by paragraph (g) of this AD, the part number of a seat is identified as P/N 2510112 series (all suffixes), or P/N 2510113 series (all suffixes): Within 6 months after the effective date of this AD, do a tensile test on that seat, in accordance with Airbus Alert Operators Transmission (AOT) A25W001-12, dated June 6, 2012.

(j) Replacement or Modification

If the tensile test sample does not break off while performing the test required by paragraph (i) of this AD, before further flight, do one of the actions specified in paragraph (j)(1) or (j)(2) of this AD.

(1) Replace the affected seat with a new or serviceable seat that has passed the tensile test specified in paragraph (i) of this AD. Do the replacement in accordance with Airbus AOT A25W001-12, dated June 6, 2012.

(2) Modify the seat by replacing actuator P/N RT19H4FX of the affected seat, in accordance with the Operating Instructions of EADS SOGERMA Inspection Service Bulletin 2510112-25-898, dated April 25, 2012; or Airbus AOT A25W001-12, dated June 6, 2012.

(k) Parts Installation Limitations

As of the effective date of this AD, no person may install a SOGERMA pilot or co-pilot seat having P/N 2510112 series, or P/N 2510113 series, on any airplane unless it has passed the tensile test required by paragraph (i) of this AD, or has been replaced or modified as required by paragraph (j) of this AD.

(l) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, Washington 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(m) Related Information

Refer to Mandatory Continuing Airworthiness Information European Aviation Safety Agency Airworthiness Directive 2012-0102, dated June 8, 2012, and the service information specified in paragraphs (m)(1) and (m)(2) of this AD, for related information.

(1) Airbus Alert Operators Transmission A25W001-12, dated June 6, 2012.

(2) EADS SOGERMA Inspection Service Bulletin 2510112-25-898, dated April 25, 2012.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Airbus Alert Operators Transmission A25W001-12, dated June 6, 2012.

(ii) EADS SOGERMA Inspection Service Bulletin 2510112-25-898, dated April 25, 2012.

(3) For Airbus service information identified in this AD, contact Airbus SAS -EAW (Airworthiness Office), 1 Rond Point Maurice Bellonte, 31707 Blagnac Cedex, France; telephone +33 5 61 93 36 96; fax +33 5 61 93 44 51; email account.airworth-eas@airbus.com; Internet http://www.airbus.com.

(4) For EADS SOGERMA service information identified in this AD, contact EADS SOGERMA, Zone Industrielle de l'Arsenal, CS. 60109, 17303 Rochefort, Cedex France; phone: 33 5 46 82 84 84; fax: 33 5 46 82 88 13; email: SCOD1@sogerma.eads.net; Internet: http://www.sogerma.eads.net.

(5) You may review copies of the service information at the FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on February 21, 2013.
Jeffrey E. Duven,
Acting Manager, Transport Airplane Directorate, Aircraft Certification Service.

[FR Doc. 2013-04628 Filed 3-12-13; 8:45 am]

BILLING CODE 4910-13-P